DEPARTMENT OF TRANSPORTATION

Federal Aviation Administration

14 CFR Part 39

[Docket No. FAA-2007-27529; Directorate Identifier 2007-CE-018-AD; Amendment 39-15038; AD 2007-09-06]

RIN 2120-AA64

Airworthiness Directives; APEX Aircraft (Type Certificate No. A36EU Formerly Held by AVIONS MUDRY et CIE) Model CAP 10 B Airplanes

AGENCY: Federal Aviation Administration (FAA), DOT.

ACTION: Final rule; request for comments.

SUMMARY: We are adopting a new airworthiness directive (AD) for the products listed above. This AD results from mandatory continuing airworthiness information (MCAI) issued by the aviation authority of another country to identify and correct an unsafe condition on an aviation product. The MCAI describes the unsafe condition as

Several recent inspections have revealed that some spar wooden centre blocks have shown cracks. Investigation revealed that cracks are generated by the wood drying. Actions specified in this AD are intended to detect and correct any defects on the central wing spar block.

This AD requires actions that are intended to address the unsafe condition described in the MCAI.

DATES: This AD becomes effective May 21, 2007.

On May 21, 2007 the Director of the Federal Register approved the incorporation by reference of certain publications listed in this AD.

We must receive any comments on this AD by June 4, 2007.

ADDRESSES: You may send comments by any of the following methods:

• DOT Docket Web site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this AD, the regulatory evaluation, any comments received, and other information. The street address for the Docket Office (telephone (800) 647-5227) is in the ADDRESSES section. Comments will be available in the AD docket shortly after receipt.

FOR FURTHER INFORMATION CONTACT: Mr. Sarjapur Nagarajan, Aerospace Engineer, FAA, Small Airplane Directorate, 901 Locust, Room 301, Kansas City, Missouri 64106; telephone: (816) 329-4145; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the Technical Agent for the Member States of the European Community, has issued AD No. 2007-0015, dated January 12, 2007 (referred to after this as “the MCAI”), to correct an unsafe condition for the specified products.

The MCAI states:

Several recent inspections have revealed that some spar wooden centre blocks have shown cracks. Investigation revealed that cracks are generated by the wood drying. Actions specified in this AD are intended to detect and correct any defects on the central wing spar block.

This AD is requiring the installation of two reinforcement plates on the wing spar to counter the shear loading, implementation of corrective actions to slow down the wood drying and is also introducing new repetitive inspections.

You may obtain further information by examining the MCAI in the AD docket.

Relevant Service Information

APEX Aircraft has issued Service Bulletin No. 060307 R1, Amendment date November 2, 2006; Apex Aircraft CAP10C—Main Spar Wooden Center Block—Reinforcement Instructions No. 1001766, dated October 6, 2006; and Apex Aircraft Document No. 1001133-A, DR400 Spar Consolidation, Applying Araldite 2015 Adhesive, dated February 4, 2003. The actions described in this service information are intended to correct the unsafe condition identified in the MCAI.

FAA's Determination and Requirements of This AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because of cracks found on the central wing spar block. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-27529; Directorate Identifier 2007-CE-018-AD” at the beginning of your comments. We specifically invite comments on the overall regulatory, economic, environmental, and energy aspects of this AD. We will consider all comments received by the closing date and may amend this AD because of those comments.

We will post all comments we receive, without change, to http://dms.dot.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-09-06 APEX Aircraft (Type Certificate No. A36EU formerly held by AVIONS MUDRY et CIE): Amendment 39-15038; Docket No. FAA-2007-27529; Directorate Identifier 2007-CE-018-AD.

Effective Date

(a) This airworthiness directive (AD) becomes effective May 21, 2007.

Affected ADs

(b) None.

Applicability

(c) This AD applies to Model CAP 10 B airplanes, all serial numbers, that are:

(1) Certificated in any category; and

(2) fitted with major change 000302, wood/carbon-made wings, part-number 11.56.00.010, serial numbers 001 to 084 inclusive.

Subject

(d) Air Transport Association of America (ATA) Code 57: Wings.

Reason

(e) The mandatory continuing airworthiness information (MCAI) states:

Several recent inspections have revealed that some spar wooden center blocks have shown cracks. Investigation revealed that cracks are generated by the wood drying. Actions specified in this AD are intended to detect and correct any defects on the central wing spar block.

This AD is requiring the installation of two reinforcement plates on the wing spar to counter the shear loading, implementation of corrective actions to slow down the wood drying and is also introducing new repetitive inspections.

Actions and Compliance

(f) Unless already done, do the following actions:

(1) Before further flight after May 21, 2007 (the effective date of this AD):

(i) Fabricate a placard that incorporates the following words (using at least ⅛-inch letters) and install this placard on the instrument panel within the pilot's clear view: “FLICK MANEUVERS ARE PROHIBITED”; and

(ii) Insert a copy of this AD into the Limitations section of the Pilot's Operating Handbook (POH).

(iii) The owner/operator holding at least a private pilot certificate as authorized by section 43.7 of the Federal Aviation Regulations (14 CFR 43.7) may fabricate the placard required in paragraph (f)(1)(i) of this AD and may insert the information into the POH as required in paragraph (f)(1)(ii) of this AD. Make an entry into the aircraft records showing compliance with these portions of the AD in accordance with section 43.9 of the Federal Aviation Regulations (14 CFR 43.9).

(2) Within the next 50 hours time-in-service (TIS) after May 21, 2007 (the effective date of this AD), inspect the front and rear spar webs for cracks and damage using Apex Aircraft Service Bulletin No. 060307 R1, Amendment date November 2, 2006.

(3) If any crack or damage is found during the inspection required in paragraph (f)(2) of this AD, the wing must be considered as unairworthy until the implementation of the relevant repair solution. Before further flight, contact Apex Aircraft to obtain a repair solution and incorporate the repair. Continued operation with cracks in the front and rear spar webs is prohibited.

(4) If no cracks or damages are found in either the rear or the front wing spar web during the inspection required in paragraph (f)(2) of this AD, before further flight install reinforcement plates, part number 97.56.00.002, using Apex Aircraft CAP10C—Main Spar Wooden Center Block—Reinforcement Instructions No. 1001766-A, dated June 10, 2006; and Apex Aircraft Document No. 1001133-A, DR400 Spar Consolidation, Applying Araldite 2015 Adhesive, dated February 4, 2003.

(5) After doing the actions required in paragraphs (f)(2), (f)(3), and (f)(4) of this AD:

(i) Flick maneuvers previously prohibited by paragraph (f)(1) of this AD are now permitted. Before further flight, remove the placard required in paragraph (f)(1)(i) of this AD and remove the insertion into the POH required in paragraph (f)(1)(ii) of this AD.

(ii) Repetitively inspect the front and rear spar webs for cracks and damage thereafter at intervals not to exceed 13 months using Apex Aircraft Service Bulletin No. 060307 R1, Amendment date November 2, 2006; and

(iii) If any crack or damage is found during any inspection required by paragraph (f)(5)(ii) this AD, before further flight contact Apex Aircraft to obtain a repair solution and incorporate the repair.

(6) After 50 hours TIS after May 21, 2007 (the effective date of this AD), do not install an Apex Aircraft wood/carbon-made wing, part number 11.56.00.010, unless it has been inspected and is found to be crack free and modified using Apex Aircraft Service Bulletin No. 060307 R1, Amendment date November 2, 2006; and Apex Aircraft CAP10C—Main Spar Wooden Center Block—Reinforcement Instructions No. 1001766-A, dated October 6, 2006.

FAA AD Differences

Note: This AD differs from the MCAI and/or service information as follows: The MCAI allows continued flight if cracks are found in the wing spar webs that do not exceed certain limits. The applicable service bulletin specifies replacing the wing spar webs only if cracks are found exceeding limits specified in Apex Aircraft Service Bulletin No. 060307 R1, Amendment date November 2, 2006, as does the MCAI. This AD does not allow continued flight if any crack is found. FAA policy is to disallow airplane operation when known cracks exist in primary structure, unless the ability to sustain ultimate load with these cracks is proven. The wing spar webs are considered primary structure, and the FAA has not received any analysis to prove that ultimate load can be sustained with cracks in these areas.

Other FAA AD Provisions

(g) The following provisions also apply to this AD:

(1) Alternative Methods of Compliance (AMOCs): The Manager, Standards Staff, FAA, Small Airplane Directorate, ATTN: Sarjapur Nagarajan, Aerospace Engineer, 901 Locust, Room 301, Kansas City, Missouri 64106; telephone: (816) 329-4145; fax: (816) 329-4090, has the authority to approve AMOCs for this AD, if requested using the procedures found in 14 CFR 39.19. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) AD No. 2007-0015, dated January 12, 2007; Apex Aircraft Service Bulletin No. 060307 R1, Amendment dated November 2, 2006; Apex Aircraft CAP10C—Main Spar Wooden Center Block—Reinforcement Instructions No. 1001766, dated October 6, 2006; and Apex Aircraft Document No. 1001133-A, DR400 Spar Consolidation, Applying Araldite 2015 Adhesive, dated February 4, 2003, for related information.

Material Incorporated by Reference

(i) You must use Apex Aircraft Service Bulletin No. 060307 R1, Amendment date November 2, 2006; Apex Aircraft CAP10C—Main Spar Wooden Center Block—Reinforcement Instructions No. 1001766-A, dated October 6, 2006; and Apex Aircraft Document No. 1001133-A, DR400 Spar Consolidation, Applying Araldite 2015 Adhesive, dated February 4, 2003, to do the actions required by this AD, unless the AD specifies otherwise.

(1) The Director of the Federal Register approved the incorporation by reference of this service information under 5 U.S.C. 552(a) and 1 CFR part 51.

(2) For service information identified in this AD, contact Apex Aircraft, Bureau de Navigabilit, 1 route de Troyes, 21121 DAROIS—France, telephone: (33) 380 35 65 10; fax: (33) 380 35 65 15; e-mail: apex-aircraft.com.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri on April 20, 2007.
Charles L. Smalley,
Acting Manager, Small Airplane Directorate, Aircraft Certification Service.

[FR Doc. E7-7980 Filed 4-27-07; 8:45 am]

BILLING CODE 4910-13-P